FEDERAL EMERGENCY MANAGEMENT AGENCY

44 CFR Part 65

[Docket No. FEMA-D-7509]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Acting Executive Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR part 10, Environmental Consideration. No environmental impact assessment has been prepared.

Regulatory Flexibility Act

The Acting Executive Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform.

This rule meets the applicable standards of section 2(b)(2) of Executive Order 12778.

List of Subjects in 44 CFR Part 65

Flood insurance, floodplains, Reporting and recordkeeping requirements.

Accordingly, 44 CFR part 65 is amended to read as follows:

PART 65—[AMENDED]

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Autauga, Lowndes, Elmore & Montgomery | City of Montgomery | March 30, 2001, April 6, 2001, The Montgomery Advisor | The Honorable Bobby N. Bright, Mayor of the City of Montgomery, City Hall, P.O. Box 1111, Montgomery, Alabama 36101 | Mar. 22, 2001 | 010174 F
Florida:
Alachua | Unincorporated Areas | March 9, 2001, March 16, 2001, The Gainesville Sun | Mr. Randall H. Reid, Alachua County Manager, P.O. Box 2877, Gainesville, Florida 32602 | Feb. 26, 2001 | 120001 A
Orange | City of Apopka | February 9, 2001, February 16, 2001, Apopka Chief | The Honorable John H. Land, Mayor of the City of Apopka, P.O. Box 1229, Apopka, Florida 32704-1229 | Jan. 31, 2001 | 120180 E
Monroe | Unincorporated Areas | March 13, 2001, March 20, 2001, The Key-West Citizen | Mr. James Roberts, Monroe County Administrator, 5100 College Road, Key West, Florida 33040 | Feb. 27, 2001 | 125129 G
Pasco | Unincorporated Areas | February 6, 2001, February 13, 2001, St. Petersburg Times | Mr. John J. Gallagher, Pasco County Administrator, West Pasco Government Center, 7530 Little Road, New Port Richey, Florida 34654 | Jan. 25, 2001 | 120230 D
Georgia: Bryan | City of Richmond Hill | February 14, 2001, February 21, 2001, Bryan County Times | The Honorable Richard R. Davis, Mayor of the City of Richmond Hill, P.O. Box 250, Richmond Hill, Georgia 31324 | Feb. 7, 2001 | 130018 B
Illinois:
DuPage | Village of Addison | February 21, 2001, February 28, 2001, Daily Herald | The Honorable Lorenz Hartwig, Mayor of the Village of Addison, 1 Friendship Plaza, Addison, Illinois 60101-2786 | Feb. 14, 2001 | 170198 C
DuPage | Unincorporated Areas | February 21, 2001, February 28, 2001, Daily Herald | Mr. Robert Schillerstrom, Chairman of DuPage County, DuPage Center, 421 North County Farm Road, Wheaton, Illinois 60187 | Feb. 14, 2001 | 170197 D
St. Clair | City of Mascoutach | February 15, 2001, February 22, 2001, Belleville News-Democrat | The Honorable Gerald Daugherty, Mayor of the City of Mascoutah, 3 West Main Street, Mascoutah, Illinois 62258 | May 24, 2001 | 170630
St. Clair | Unincorporated Areas | February 15, 2001, February 22, 2001, Bellevue News-Democrat | Mr. John Baricevic, Chairman of the St. Clair County Board, St. Clair County Courthouse, 10 Public Square, Bellevue, Illinois 62220-1623 | May 24, 2001 | 170616 A
DuPage | Village of Villa Park | February 21, 2001, February 28, 2001, Daily Herald | Ms. Rae Rupp Srch, President of the Village of Villa Park, 20 South Ardmore Avenue, Villa Park, Illinois 60181 | Feb. 14, 2001 | 170217 B
Kentucky: Warren | City of Bowling Green | March 13, 2001, March 20, 2001, Daily News | The Honorable Sandy Jones, Mayor of the City of Bowling Green, P.O. Box 430, Bowling Green, Kentucky 42102-0430 | June 19, 2001 | 210219 D
Mississippi: Clarke | Unincorporated Areas | February 1, 2001, February 8, 2001, Clarke County Tribune | Mr. Paul Mosley, President of the Clarke County Board of Supervisors, P.O. Box 616, Quitman, Mississippi 39355 | July 19, 2001 | 280220 B
New Hampshire: Rockingham | Town of Rye | February 23, 2001, March 2, 2001, Portsmouth Herald | Mr. Kenneth S. Fox, Chairman, Town of Rye Board of Selectmen, Rye Town Office, 10 Central Road, Rye, New Hampshire 03870 | Feb. 15, 2001 | 330141 B
New Jersey:
Morris | Borough of Madison | March 22, 2001, March 29, 2001, Madison Eagle | The Honorable John J. Dunne, Mayor of the Borough of Madison, Hartley Dodge Memorial, 50 Kings Road, Madison, New Jersey 07940 | June 12, 2001 | 340347 B
Cape May | City of North Wildwood | January 10, 2001, January 17, 2001, The Leader | The Honorable Aldo A. Palombo, Mayor of the City of North Wildwood, Municipal Building, 901 Atlantic Avenue, North Wildwood, New Jersey 08260 | Dec. 27, 2000 | 345308 E
New York: Schoharie | Village of Cobleskill | February 21, 2001, February 28, 2001, Times Journal | The Honorable William Gilmore, Mayor of the Village of Cobleskill, Village Offices, P.O. Box 169, Cobleskill, New York 12043 | Aug. 9, 2001 | 360743 B
Ohio:
Lake | Unincorporated Areas | February 16, 2001, February 23, 2001, News-Herald | Mr. Daniel Troy, President of the Lake County Board of Commissioners, 105 Main Street, Painesville, Ohio 44077 | May 25, 2001 | 390771 C
Licking | City of Newark | June 5, 2000, June 12, 2000, The Advocate | The Honorable Frank L. Stare III, Mayor of the City of Newark, 40 West Main Street, Newark, Ohio 43055 | Sept. 11, 2000 | 390335 F
Pennsylvania:
Montgomery | Township of Abington | March 28, 2001, April 4, 2001, The Record | Ms. Barbara Ferrara, President, Township of Abington Board of Commissioners, 1176 Old York Road, Abington, Pennsylvania 19001 | Mar. 16, 2001 | 420695 E
Lancaster | Township of East Cocalico | February 19, 2001, Intelligence Journal | Mr. Douglas Mackley, Chairman of the Board of Supervisors, East Cocalico Township Office, 100 Hill Road, Denver, Pennsylvania 17517 | Mar. 15, 2001 | 420547 C
Montgomery | Township of Perkiomen | February 15, 2001, Times Herald | Mr. William Patterson, Chairman of the Board of Supervisors, Township of Perkiomen, 1 Trappe Road, Collegeville, Pennsylvania 19474 | Mar. 17, 2001 | 421915 E
Schuylkill | City of Pottsville | April 6, 2001, April 13, 2001, Pottsville Republican | The Honorable John D. W. Reiley, Mayor of the City of Pottsville, P.O. Box 50 Pottsville, Pennsylvania 17901 | Mar. 23, 2001 | 420785 B
Puerto Rico | Commonwealth | March 22, 2001, March 29, 2001, San Juan Star | The Honorable Sila Maria Calderon, Governor of the Commonwealth of Puerto Rico, P.O. box 82, La Fortaleza, San Juan, Puerto Rico 00901 | June 11, 2001 | 720000 E
Rhode Island: Providence | City of Crantson | March 1, 2001, March 8, 2001, Cranston Hearald | The Honorable John O'Leary, Mayor of the City of Cranston, City Hall, 869 Park Avenue, Cranston, Rhode Island 02910 | June 7, 2001 | 445396 B
South Carolina: Kershaw | Unincorporated Areas | March 21, 2001, March 28, 2001, The Kershaw News-Era | Mr. Gordon Hartwig, Kershaw County Administrator, 1121 Broad Street, Camden, South Carolina 29020 | June 27, 2001 | 450115 D
Tennessee:
Montgomery | City of Clarksville | March 23, 2001, March 30, 2001, The Leaf-Chronicle | The Honorable Johnny Piper, Mayor of the City of Clarksville, 102 Public Square, Clarksville, Tennessee 37040 | June 29, 2001 | 470137 C
Montgomery | Unincorporated Areas | March 23, 2001, March 30, 2001, The Leaf-Chronicle | Mr. Douglas Weiland, Montgomery County Executive, 126 Main Street, Clarksville, Tennessee 37041 | June 29, 2001 | 470136 B
Virginia:
Fauquier | Unincorporated Areas | March 29, 2001, April 5, 2001, Fauquier Citizen | Mr. G. Robert Lee, Fauquier County Administrator, 40 Culpeper Street, Warrenton, Virginia 20186 | July 5, 2001 | 510055 A
Independent City | City of Roanoke | March 30, 2001, April 6, 2001, Roanoke Times | The Honorable Ralph Smith, Mayor of the City of Roanoke, 215 Church Avenue, S.W., Room 452, Roanoke, Virginia 24011 | July 6, 2001 | 510130 D
Spotsylvania | Unincorporated Areas | March 30, 2001, April 6, 2001, Free Lance Star | Mr. L. Kimball Payne III, Spotsylvania County Administrator, P.O. Box 99, Spotsylvania, Virginia 22553 | Sept. 21, 2001 | 510308 C

(Catalog of Federal Domestic Assistance No. 83.100, “Flood Insurance”)
Dated: May 3, 2001.
Margaret E. Lawless,
Acting Executive Associate Director for Mitigation.

[FR Doc. 01-12029 Filed 5-11-01; 8:45 am]

BILLING CODE 6718-04-P